DEPARTMENT OF THE TREASURY

Internal Revenue Service

26 CFR Part 1

[TD 9612]

RIN 1545-BA53

Noncompensatory Partnership Options

Correction

In rule document 2013-2259 appearing on pages 7997-8016 in the issue of Tuesday, February 5, 2013, make the following correction:

§ 1.704-1 [Corrected]

In § 1.704-1, on page 8012, the second table should appear as follows:

| Basis | Value
Assets:
Property D | $24,000 | $33,000
Cash | $12,000 | $12,000
Total | $36,000 | $45,000
Liabilities and Capital:
K | $13,000 | $15,000
L | $13,000 | $15,000
M | $10,000 | $15,000
| $36,000 | $45,000

[FR Doc. C1-2013-02259 Filed 3-29-13; 8:45 am]

BILLING CODE 1505-01-D